DEPARTMENT OF ENERGY

Federal Energy Regulatory Commission

Notice of Application Tendered for Filing With the Commission and Soliciting Additional Study Requests

June 10, 2004.

Take notice that the following hydroelectric application has been filed with the Commission and is available for public inspection:

a. Type of Application: New major license.

b. Project No.: P-11882-002.

c. Date Filed: May 27, 2004.

d. Applicant: Fall River Rural Electric Cooperative, Inc.

e. Name of Project: Hebgen Dam Hydroelectric Project.

f. Location: On the Madison River, near the town of West Yellowstone, Gallatin County, Montana. The project is located in the Gallatin National Forest and is within close proximity to Yellowstone National Park.

g. Filed Pursuant to: Federal Power Act, 16 U.S.C. 791(a)-825(r).

h. Applicant Contact: Brent L. Smith, Northwest Power Services, Inc. PO Box 535, Rigby, Idaho 83442, (208) 745-0834.

i. FERC Contact: Kim A. Nguyen, kim.nguyen@ferc.gov, (202) 502-6105.

j. Pursuant to 18 CFR 4.32(b)(7) of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

k. Deadline for filing additional study requests and requests for cooperating agency status: July 26, 2004.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

l. The application is not ready for environmental analysis at this time.

m. The Applicant proposes to utilize the existing Hebgen Dam, Hebgen Reservoir, outlet works, and spillway, currently owned and operated by Pennsylvania Power and Light Montana, LLC (PPL Montana) as a regulating reservoir under the Missouri-Madison Hydroelectric Project, FERC No. 2188. The Applicant proposes to construct a powerhouse with a single turbine generator unit of approximately 6.7 megawatt capacity at the area downstream of the dam and immediately north of the present outlet discharge. The Applicant also proposes to install a new 9.4-mile, 25-kilovolt underground power transmission line to connect the powerhouse with the existing Fall River Rural Electric Cooperative's Hebgen substation located near Grayline, Montana. The average annual generation is estimated to be 42.98 gigawatthours.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

You may also register online at http://www.ferc.gov/docs-filing/esubscription.asp to be notified via email of new filings and issuances related to this or other pending projects. For assistance, contact FERC Online Support.

o. With this notice, we are initiating consultation with the Montana State Historic Preservation Officer (SHPO), as required by § 106, National Historic Preservation Act, and the regulations of the Advisory Council on Historic Preservation, 36 CFR 800.4.

p. Procedural schedule and final amendments: The application will be processed according to the following Hydro Licensing Schedule. Revisions to the schedule will be made as appropriate.

Issue Acceptance/Deficiency Letter: July 2004.

Request Additional Information: July 2004.

Issue Acceptance Letter: October 2004.

Issue Scoping Document 1 for comments: November 2004.

Request Additional Information (if necessary): January 2005.

Issue Scoping Document 2: February 2005.

Notice that application is ready for environmental analysis (EA): February 2005.

Notice of the availability of the draft EA: August 2005.

Notice of the availability of the final EA: November 2005.

Ready for Commission's decision on the application: November 2005.

Linda Mitry,
Acting Secretary.

[FR Doc. E4-1358 Filed 6-17-04; 8:45 am]

BILLING CODE 6717-01-P